DEPARTMENT OF COMMERCE

International Trade Administration

Initiation of Antidumping and Countervailing Duty Administrative Reviews and Requests for Revocation in Part

AGENCY: Import Administration, International Trade Administration, Department of Commerce.

ACTION: Notice of Initiation of Antidumping and Countervailing Duty Administrative Reviews and Requests for Revocation in Part.

SUMMARY: The Department of Commerce (the Department) has received requests to conduct administrative reviews of various antidumping and countervailing duty orders and findings with July anniversary dates. In accordance with the Department's regulations, we are initiating those administrative reviews. The Department also received requests to revoke two antidumping duty orders in part and one countervailing duty order in part.

EFFECTIVE DATE: August 30, 2004.

FOR FURTHER INFORMATION CONTACT: Holly A. Kuga, Office of AD/CVD Enforcement , Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with July anniversary dates. The Department also received timely requests to revoke in part the antidumping duty orders on Certain Pasta from Italy (for both the antidumping and countervailing duty orders), and Canned Pineapple Fruit from Thailand.

Initiation of Reviews

In accordance with 19 CFR 351.221(c)(1)(i), we are initiating administrative reviews of the following antidumping and countervailing duty orders and findings. We intend to issue the final results of these reviews not later than July 31, 2005.

| Period to be reviewed
Antidumping Duty Proceedings
Brazil: Silicon Metal, A-351-806 | 7/1/03-6/30/04
Camargo Correa Metais S.A.
Canada: Certain Softwood Lumber,¹ A-122-838 | 5/1/03-4/30/04
Barry Maedel Woods & Timber
Lamco Forest Products
Northland Forest Products Ltd.
Uniforect Scierie-Pate
Pleasant Valley Remanufacturing Ltd.
Lousiana Pacific Corporation
Lousiana Malakwa
Specialites G.D.S. Inc.²
Chile: Individual Quick Frozen Red Raspberries, A-337-806 | 7/1/03-6/30/04
Agricola Nova Ltda.
Agroindustria Sagrada Familia Ltda.
Agroindustria Frisac Ltda.
Agroindustria Frutos del Maipo Ltda.
Agroindustria Merco Trading Ltda.
Agross S.A.
Alimentos Prometeo Ltda.
Alimentos y Frutos S.A./and its affiliate, Vita Food S.A.
Andesur S.A.
Angloeuro Comercio Exterior S.A.
Armijo Carrasco, Claudio del Carmen
Arvalan S.A.
Bajo Cero S.A.
Certified Pure Ingredients (Chile) Inc. y Cia.
Chile Andes Foods S.A.
Comercializadora Agricola Berries & Fruit Ltda.
Comercializadora de Alimentos del Sur Ltda.
Comercio y Servicios S.A.
Copefrut S.A.
C y C Group S.A.
Exportaciones Meyer S.A.
Multifrigo Valparaiso S.A.
Exportadora Pentagro S.A.
Agroindustria Framberry Ltd.
Francisco Nancuvilu Punsin
Frigorifico Ditzler Ltda.
Frutas de Guaico S.A.
Fruticola Olmue S.A.
Fruticola Viconto S.A.
Hassler Monckeberg S.A.
Hortifrut S.A.
Interagro Comercio Y Ganado S.A.
Kugar Export Ltda. (Kulenkampff & Gardeweg Ltda.)
Maria Teresa Ubilla Alarcon
Prima Agrotrading Ltda.
Procesadora y Exportadora de Frutas y Vegetales Ltda.
Santiago Comercio Exterior Exportaciones Ltda.
Sociedad Agricola Valle del Laja Ltda.
Sociedad Exportaciones Antiquina Ltda.
Sociedad San Ernesto Ltda.
Terra Natur S.A.
Terrazas Export S.A.
Uren Chile S.A.
Valles Andinos S.A.
Vital Berry Marketing S.A.
Rio Teno S.A.
Nevada Export S.A.
Agrofruta Chilena Ltda.
Agroindustrias San Francisco Ltda.
Agroindustria y Niquen Ltda.
Agroindustria y Frigorifico M y M Ltda.
Agrocomercial Las Tinajas Ltda.
France: Stainless Steel Sheet and Strip in Coils, A-427-814 | 7/1/03-6/30/04
Ugine & ALZ France S.A.
Germany: Stainless Steel Sheet and Strip in Coils, A-428-825 | 7/1/03-6/30/04
Krupp Thyssen Nirosta GmbH
Thyssen Krupp VDM GmbH
India: Polyethylene Terephthalate (PET) Film, A-533-824 | 7/1/03-6/30/04
Ester Industries Ltd.
Flex Industries Ltd.
Gareware Polyester Limited
Jindal Polyester Limited/Jindal Poly Films Limited
MTZ Polyesters Ltd.
Polyplex Corporation Ltd.
SRF Ltd.
Iran: In-Shell Pistachios, A-507-502 | 7/1/03-6/30/04
Nima Trading Company
Italy:
Certain Pasta, A-475-818 | 7/1/03-6/30/04
Barilla G.e.R. Fratelli, S.p.A. (formerly Barilla Alimentare, S.p.a.)
Pastificio Antonio Pallante S.r.L.
Pastifico Fratelli Pagani S.p.A.
Industrie Alimentare Colavita, S.p.A./Fusco, S.r.L.
Pastificio Riscossa F. Illi Mastromauro, S.r.L.
Pastificio Carmine Russo S.p.A./Pastificio Di Nola S.p.A.
Corticella Molini e Pastifici S.p.a./Pasta Combattenti S.p.a.
Stainless Steel Sheet and Strip in Coils, A-475-824 | 7/1/03-6/30/04
Thyssen Krupp Acciai Speciali Terni S.p.A.
Japan: Stainless Steel Sheet and Strip in Coils, A-588-845 | 7/1/03-6/30/04
Kawasaki Steel Corporation (and it’s alleged successor-in-interest JFE Steel Corp.)
Mexico: Stainless Steel Sheet and Strip in Coils, A-201-822 | 7/1/03-6/30/04
Mexinox S.A. de C.V.
Taiwan: Stainless Steel Sheet and Strip in Coils, A-583-831 | 7/1/03-6/30/04
Ta Chen Stainless Pipe Co., Ltd.
Tung Mung Development Co., Ltd.
Yieh United Steel Corporation
Chia Far Industrial Factory Co., Ltd.
China Steel Corporation
Emerdex Stainless Flat-Rolled Products, Inc.
Emerdex Stainless Steel, Inc.
Emerdex Group
Tang Eng Iron Works
PFP Taiwan Co., Ltd.
Yieh Loong Enterprise Co., Ltd.
Yieh Trading Corp.
Goang Jau Shing Enterprise Co., Ltd.
Yieh Mau Corp.
Chien Shing Stainless Co.
Chain Chon Industrial Co., Ltd.
Thailand:
Butt-Weld Pipe Fittings, A-549-807 | 7/1/03-6/30/04
Thai Benkan Company Limited
Canned Pineapple, A-549-813 | 7/1/03-6/30/04
The Thai Pineapple Canning Industry Corp., Ltd.
The Prachuab Fruit Canning Company
Vita Food Factory (1989) Co., Ltd.
Furfuryl Alcohol, A-549-812 | 7/1/03-6/30/04
Indorama Chemicals Thailand Ltd.
The People's Republic of China:
Folding Metal Tables and Chairs,³ A-570-868 | 6/1/03-5/31/04
Saccharin,⁴ A-570-878 | 12/27/02-6/30/04
Beta Udyog Ltd.
Daiwa Kenko Company Limited
Kaifeng Xinghua Fine Chemical Factory
Kenko Corporation
Productos Aditivos, S.A.
Shanghai Fortune Chemical Co., Ltd.
Suzhou Fine Chemicals Group Co.
Tianjin Changjie Chemical Co., Ltd.
Tianjin North Food
Sebacic Acid,⁵ A-570-825 | 7/1/03-6/30/04
Tianjin Chemicals Import & Export Corporation
Guangdong Chemicals Import and Export Corporation
Turkey: Certain Pasta, A-489-805 | 7/1/03-6/30/04
Filiz Gida Sanayi ve Ticaret A.S.
Tat Konserve, A.S.
Countervailing Duty Proceedings
Italy: Certain Pasta, C-475-819 | 1/1/03-12/31/03
Corticella Molini e Pastifici S.p.a./Pasta Combattenti S.p.a.
Pastificio Carmine Russo S.p.A./Pastificio Di Nola S.p.A.
Pastificio Antonio Pallante S.r.L.
Pasta Lensi S.r.l. (successor to IAPC Italia S.r.l.)
India: Polyethylene Terephthalate (PET) Film, C-533-825 | 1/1/03-12/31/03
Ester Industries Ltd.
Flex Industries Ltd.
Gareware Polyester Limited
Jindal Polyester Limited/Jindal Poly Films Limited
MTZ Polyesters Ltd.
Polyplex Corporation Ltd.
SRF Ltd.
Suspension Agreements
None.
¹ The companies listed were inadvertently omitted from the initiation notices that published on 06/30/04 (69 FR 39409) and 07/28/04 (69 FR 45010).
² On June 30, 2004 (69 FR 38409), we initiated a review on Specialties G.D.S. Inc. We inadvertently misspelled the company name in that notice. The correct spelling of the company name is listed above.
³ On July 28, 2004 (69 FR 45010), we initiated an administrative review on Folding Metal Tables and Chairs from the PRC. In that notice the period of review listed was incorrect. The correct POR is listed above.
⁴ If one of the above named companies does not qualify for a separate rate, all other exporters of saccharin from the People's Republic of China who have not qualified for a separate rate are deemed to be covered by this review as part of the single PRC entity of which the named exporters are a part.
⁵ If one of the above named companies does not qualify for a separate rate, all other exporters of sebacic acid from the People's Republic of China who have not qualified for a separate rate are deemed to be covered by this review as part of the single PRC entity of which the named exporters are a part.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine, consistant with FAG Italia v. United States, 291 F.3d 806 (Fed. Cir. 202), as appropriate,

whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: August 24, 2004.
Holly A. Kuga,
Senior Office Director, Office 4 for Import Adminstration.

[FR Doc. E4-1977 Filed 8-27-04; 8:45 am]

BILLING CODE 3510-DS-P